DEPARTMENT OF LABOR

Employment and Training Administration

[TA-W-53,486]

Stanley Services Employed by Harriet & Henderson Yarns, Inc., Henderson, NC; Notice of Revised Determination on Reconsideration

By application of December 29, 2003, a petitioner requested administrative reconsideration regarding the Department's Negative Determination Regarding Eligibility to Apply for Worker Adjustment Assistance, applicable to the workers of the subject firm.

The initial investigation resulted in a negative determination issued on November 25, 2003, based on the finding that the petitioning workers did not produce an article within the meaning of Section 222 of the Act. The denial notice was published in the Federal Register on December 29, 2003 (68 FR 74977).

To support the request for reconsideration, the petitioner supplied additional information to supplement that which was gathered during the initial investigation. Upon further review, including an examination of the new materials provided by the petitioner and a contact with the company official, it was established that the petitioning workers performed janitorial cleaning services on the contractual basis onsite at Harriet & Henderson Yarns, Harriet Plant #2, Henderson, North Carolina. The workers of Harriet & Henderson Yarns, Harriet Plant #2, Henderson, North Carolina (TA-W-52,663) were certified eligible to apply for Trade Adjustment Assistance (TAA) on September 25, 2003.

Conclusion

After careful review of the facts obtained in the investigation, I determine that workers of Stanley Services, engaged in janitorial cleaning services at Harriet & Henderson Yarns, Henderson, North Carolina qualify as adversely affected leased workers under Section 222 of the Trade Act of 1974, as amended. In accordance with the provisions of the Act, I make the following certification:

All workers of Stanley Services, employed by Harriet & Henderson Yarns, Henderson, North Carolina, who became totally or partially separated from employment on or after November 4, 2002 through two years from the date of this certification, are eligible to apply for adjustment assistance under section 223 of the Trade Act of 1974.

Signed in Washington, DC, this 27th day of February 2004.
Elliott S. Kushner,
Certifying Officer, Division of Trade Adjustment Assistance.

[FR Doc. 04-5607 Filed 3-11-04; 8:45 am]

BILLING CODE 4510-30-P